DEPARTMENT OF ENERGY

Federal Energy Regulatory Commission

[Docket No. CP24-80-000]

Mississippi Hub, LLC; Notice of Availability of the Environmental Assessment for the Proposed MS Hub Capacity Expansion Project

The EA assesses the potential environmental effects of the construction and operation of the MS Hub Capacity Expansion Project in accordance with the requirements of the National Environmental Policy Act (NEPA). The FERC staff concludes that approval of the proposed project would not constitute a major Federal action significantly affecting the quality of the human environment.

The proposed MS Hub Capacity Expansion Project includes the following modifications to the existing MS Hub Storage Facility in Simpson County, Mississippi:

• increase the certificated capacity ¹ of Gas Storage Caverns No. 1 and No. 2 by a total of 3.87 Bcf;

¹ The total gas capacity of a storage cavern including the working gas capacity plus the base gas capacity. Base gas capacity is defined as the capacity of the cavern that is used to provide pressure support for integrity and/or deliverability requirements.

• construct three new gas storage caverns Nos. 4, 5, and 6 totaling approximately 30.0 Bcf of working gas capacity; ²

² The capacity of the gas storage caverns used for jurisdictional service.

• increase the certificated working gas capacity ³ at the MS Hub Storage Facility by approximately 33.9 Bcf per day;

³ The fraction of certificated capacity that is working gas capacity.

• construct two electric motor-driven compressor units each rated at 7,000 horsepower (hp) and three Caterpillar model G3616 A4 reciprocating internal combustion engine natural gas-fired compressor units each rated at 5,500 hp, and dehydration and ancillary equipment at the existing Gas Handling Facility; and

• expand the existing Leaching Facility for the solution mining of each cavern by installing additional pumps, water tanks and separators.

In addition, the MS Hub Capacity Expansion Project includes construction and operation of the following facilities:

Simpson County, Mississippi

• one meter skid and one filter separator on the existing Southern Natural Gas (SONAT) Metering and Regulation (M&R) Station site;

• four raw water wells Nos. 6 through 9;

• one new saltwater disposal well No. 9; and

• two saltwater disposal wells Nos. 5 and 7 collocated at the existing raw water well No. 3 and saltwater disposal well No. 3 wellpad.

Covington County, Mississippi

• two-meter skids, two flow control skids, and one filter separator on the existing Transcontinental Gas Pipeline (Transco) M&R Station site;

• one meter skid and one filter separator on the existing Southeast Supply Header (SESH) M&R Station site; and

• one booster compressor station (MS Hub Booster Station) and associated equipment approximately 18 miles south of the MS Hub Storage Facility and approximately 2 miles northwest of the existing Transco M&R Station consisting of three Solar Mars model 100-16000S natural gas-fired turbine compressor units each rated at 13,486 hp.

Jefferson Davis County, Mississippi

• two saltwater disposal wells Nos. 6 and 8 at the existing raw water well No. 4 and saltwater disposal well No. 4 wellpad.

As the MS Hub Storage Facility is currently operational, the facilities contemplated by the project would be added to complement the current infrastructure. With the additional injection and delivery capacity, the MS Hub Storage Facility would be capable of providing additional high-turn services to the Gulf Coast and Southeast market areas.

The Commission mailed a copy of the Notice of Availability to Federal, State, and local government representatives and agencies; elected officials; environmental and public interest groups; Native American tribes; potentially affected landowners and other interested individuals and groups; and newspapers and libraries in the project area. The EA is only available in electronic format. It may be viewed and downloaded from the FERC's website (www.ferc.gov), on the natural gas environmental documents page (https://www.ferc.gov/industries-data/natural-gas/environment/environmental-documents). In addition, the EA may be accessed by using the eLibrary link on the FERC's website. Click on the eLibrary link (https://elibrary.ferc.gov/eLibrary/search), select “General Search” and enter the docket number in the “Docket Number” field, excluding the last three digits (i.e., CP24-80). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC on or before 5:00 p.m. Eastern Time on November 29, 2024.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the Commission. Be sure to reference the project docket number (CP24-80-000) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/how-intervene.

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: October 30, 2024.
Debbie-Anne A. Reese,
Secretary.

[FR Doc. 2024-26045 Filed 11-7-24; 8:45 am]

BILLING CODE 6717-01-P